DEPARTMENT OF ENERGY

Federal Energy Regulatory Commission

Combined Notice of Filings # 2

December 11, 2007.

Take notice that the Commission received the following electric corporate filings:

Docket Numbers: EC08-20-000.

Applicants: RockGen Energy LLC; RockGen OL-1, LLC; RockGen OL-2, LLC; RockGen OL-3, LLC; RockGen OL-4, LLC.

Description: RockGen Energy, LLC et al submits a joint application for acquisition of ownership from the Interest Holders of an electric generation facility in Dane County, Wisconsin.

Filed Date: 12/06/2007.

Accession Number: 20071210-0047.

Comment Date: 5 p.m. Eastern Time on Thursday, December 27, 2007.

Docket Numbers: EC08-21-000.

Applicants: Northern Indiana Public Service Company; Broadway Gen Funding, LLC; Sugar Creek Power Company, LLC.

Description: Northern Indiana Public Service Co and Broadway Gen Funding, LLC et al submits an application and related exhibits requesting authorization for a transaction to transfer a generating facility.

Filed Date: 12/06/2007.

Accession Number: 20071210-0043.

Comment Date: 5 p.m. Eastern Time on Thursday, December 27, 2007.

Docket Numbers: EC08-22-000.

Applicants: Bicent (California) Power LLC; Bicent (California) Malburg LLC.

Description: Bicent (California) Power LLC et al requests authorization for its acquisition of the Malburg Generating Station pursuant to Amended and Restated Purchase and Sale Agreement to be entered with the City of Vernon, CA.

Filed Date: 12/07/2007.

Accession Number: 20071211-0058.

Comment Date: 5 p.m. Eastern Time on Friday, December 28, 2007.

Take notice that the Commission received the following exempt wholesale generator filings:

Docket Numbers: EG08-19-000.

Applicants: Sweetwater Wind 5 LLC.

Description: Sweetwater Wind 5 LLC submits a notice of self-certification of its status as an exempt wholesale generator.

Filed Date: 12/06/2007.

Accession Number: 20071207-0099.

Comment Date: 5 p.m. Eastern Time on Thursday, December 27, 2007.

Docket Numbers: EG08-20-000.

Applicants: South Trent Wind LLC.

Description: South Trent Wind LLC submits a notice of self-certification of its status as an exempt wholesale generator.

Filed Date: 12/06/2007.

Accession Number: 20071207-0098.

Comment Date: 5 p.m. Eastern Time on Thursday, December 27, 2007.

Docket Numbers: EG08-21-000.

Applicants: Forward Windpower, LLC.

Description: Notice of Self-Certification of Exempt Wholesale Generator Status.

Filed Date: 12/07/2007.

Accession Number: 20071207-5025.

Comment Date: 5 p.m. Eastern Time on Friday, December 28, 2007.

Docket Numbers: EG08-22-000.

Applicants: Lookout Windpower, LLC.

Description: Notice of Self-Certification of Exempt Wholesale Generator Status.

Filed Date: 12/07/2007.

Accession Number: 20071207-5026.

Comment Date: 5 p.m. Eastern Time on Friday, December 28, 2007.

Take notice that the Commission received the following electric rate filings:

Docket Numbers: ER98-830-016 ER03-719-007; ER03-720-007; ER03-721-007.

Applicants: Millennium Power Partners, LLC, New Athens Generating Company, LLC; New Covert Generating Company, LLC; New Harquahala Generating Company, LLC.

Description: New Athens Generating Co, LLC et al submits an amendment to the 10/25/07 et al filing of a non-material Change in Status.

Filed Date: 12/07/2007.

Accession Number: 20071210-0034.

Comment Date: 5 p.m. Eastern Time on Friday, December 28, 2007.

Docket Numbers: ER06-1346-002.

Applicants: White Creek Wind I, LLC.

Description: White Creek Wind I LLC submits its revised Third Revised Sheet 1 of its FERC Electric Tariff, Original Volume 1.

Filed Date: 12/04/2007.

Accession Number: 20071206-0228.

Comment Date: 5 p.m. Eastern Time on Wednesday, December 26, 2007.

Docket Numbers: ER07-1103-003.

Applicants: Niagara Mohawk Power Corporation.

Description: Niagara Mohawk Power Corp dba National Grid submits Service Agreement 1151 with an updated effective date pursuant to FERC's 10/31/07 Letter Order under ER07-1103.

Filed Date: 11/30/2007.

Accession Number: 20071204-0074.

Comment Date: 5 p.m. Eastern Time on Friday, December 21, 2007.

Docket Numbers: ER07-1199-001.

Applicants: Airtricity Munnsville Wind Farm, LLC.

Description: Airtricity Munnsville Wind Farm, LLC submits notice of non-material change in status related to a change in its upstream ownership under ER07-1199.

Filed Date: 11/30/2007.

Accession Number: 20071204-0067.

Comment Date: 5 p.m. Eastern Time on Friday, December 21, 2007.

Docket Numbers: ER07-1408-001.

Applicants: PacifiCorp.

Description: PacifiCorp re-files the 1968 Operating Agreement in compliance with FERC's 11/21/07 letter order.

Filed Date: 12/06/2007.

Accession Number: 20071207-0096.

Comment Date: 5 p.m. Eastern Time on Thursday, December 27, 2007.

Docket Numbers: ER08-55-001.

Applicants: Midwest Independent Transmission System Operator, Inc

Description: Midwest Independent Transmission System Operator, Inc et al submit proposed revisions to the Congestion Management Process of their Joint Operating Agreement.

Filed Date: 12/07/2007.

Accession Number: 20071210-0036.

Comment Date: 5 p.m. Eastern Time on Friday, December 28, 2007.

Docket Numbers: ER08-112-002.

Applicants: Idaho Power Company.

Description: Idaho Power Co submits the corrected Attachment 2 to its 12/4/07 filing of revised sheets to its Open Access Transmission Tariff.

Filed Date: 12/07/2007.

Accession Number: 20071210-0037.

Comment Date: 5 p.m. Eastern Time on Friday, December 28, 2007.

Docket Numbers: ER08-274-001.

Applicants: Citadel Energy Strategies, LLC.

Description: Citadel Energy Strategies LLC submits an amendment to its Petition for Acceptance of Initial Rate, Waivers and Blanket Authorization, designated as Rate Schedule FERC 1 and on12/10/07 submit its second amendment to this filing.

Filed Date: 12/07/2007; 12/10/2007.

Accession Number: 20071210-0001; 20071211-0073.

Comment Date: 5 p.m. Eastern Time on Thursday, December 20, 2007.

Docket Numbers: ER08-299-000.

Applicants: Snowflake White Mountain Power, LLC.

Description: Snowflake White Mountain Power, LLC submits an application for market-based authorization, certain waivers and blanket authorizations and request for expedited treatment.

Filed Date: 12/05/2007.

Accession Number: 20071207-0091.

Comment Date: 5 p.m. Eastern Time on Wednesday, December 26, 2007.

Docket Numbers: ER08-300-000.

Applicants: Southern California Edison Company.

Description: Southern California Edison Co. submits an unexecuted Small Generator Interconnection Agreement etc with County Sanitation Districts of Los Angeles.

Filed Date: 12/05/2007.

Accession Number: 20071207-0092.

Comment Date: 5 p.m. Eastern Time on Wednesday, December 26, 2007.

Docket Numbers: ER08-301-000.

Applicants: Covanta Fairfax, Inc.

Description: Covanta Fairfax, Inc submits the Second Amendment to First Amended and Restatement of Power Purchase and Operating Agreement with Virginia Electric and Power Co dba Dominion Virginia Power.

Filed Date: 12/05/2007.

Accession Number: 20071207-0093.

Comment Date: 5 p.m. Eastern Time on Wednesday, December 26, 2007.

Docket Numbers: ER08-302-000; TS08-1-000.

Applicants: Peetz Logan Interconnect, LLC.

Description: Peetz Logan Interconnect, LLC submits an Amended and Restated Transmission Service Agreement with Peetz Table Wind Energy, LLC, et al, and a request for waivers of certain Standard of Conduct regulations.

Filed Date: 12/05/2007.

Accession Number: 20071207-0090.

Comment Date: 5 p.m. Eastern Time on Wednesday, December 26, 2007.

Docket Numbers: ER08-303-000.

Applicants: Williams Gas Marketing, Inc.

Description: Williams Gas Marketing, Inc submits a Notice of Succession by reason of a change in name to Williams Power Co.

Filed Date: 12/05/2007.

Accession Number: 20071207-0094.

Comment Date: 5 p.m. Eastern Time on Wednesday, December 26, 2007.

Docket Numbers: ER08-304-000.

Applicants: Indiana Michigan Power Company.

Description: Indiana Michigan Power Co submits First Revised Sheet 15 et al to FERC Rate Schedule 110.

Filed Date: 12/06/2007.

Accession Number: 20071207-0095.

Comment Date: 5 p.m. Eastern Time on Thursday, December 27, 2007.

Docket Numbers: ER08-305-000.

Applicants: Phoenix Energy Trading, LLC.

Description: Phoenix Energy Trading LLC submits a notice of cancellation of FERC Electric, Original Volume 1, to become effective 12/15/07.

Filed Date: 12/07/2007.

Accession Number: 20071210-0002.

Comment Date: 5 p.m. Eastern Time on Friday, December 28, 2007.

Docket Numbers: ER08-306-000.

Applicants: Appalachian Power Company.

Description: Appalachian Electric Power Company submits First Revised Sheet 13 et al to FERC Electric Rate Schedule 153.

Filed Date: 12/07/2007.

Accession Number: 20071210-0003.

Comment Date: 5 p.m. Eastern Time on Friday, December 28, 2007.

Docket Numbers: ER08-307-000.

Applicants: Appalachian Power Company.

Description: Appalachian Power Co submits their First Revised Sheet 13 et al to FERC Electric Rate Schedule 152 et al.

Filed Date: 12/07/2007.

Accession Number: 20071210-0004.

Comment Date: 5 p.m. Eastern Time on Friday, December 28, 2007.

Docket Numbers: ER08-308-000.

Applicants: Appalachian Power Company.

Description: Appalachian Power Company submits First Revised Sheet 14 et al to its FERC Rate Schedule 154.

Filed Date: 12/07/2007.

Accession Number: 20071210-0005.

Comment Date: 5 p.m. Eastern Time on Friday, December 28, 2007.

Docket Numbers: ER08-309-000.

Applicants: Kentucky Power Company.

Description: Kentucky Power Company submits First Revised Sheet 10 et al to its FERC Rate Schedule 51.

Filed Date: 12/07/2007.

Accession Number: 20071210-0006.

Comment Date: 5 p.m. Eastern Time on Friday, December 28, 2007.

Docket Numbers: ER08-310-000.

Applicants: Indiana Michigan Power Company.

Description: Indiana Michigan Power Company submits First Revised Sheet 15 et al to its FERC Electric Rate Schedule 108.

Filed Date: 12/07/2007.

Accession Number: 20071210-0007.

Comment Date: 5 p.m. Eastern Time on Friday, December 28, 2007.

Docket Numbers: ER08-311-000.

Applicants: Indiana Michigan Power Company.

Description: Indiana Michigan Power Company submits its First Revised Sheet 15 et al to its FERC Electric Rate Schedule 111.

Filed Date: 12/07/2007.

Accession Number: 20071210-0009.

Comment Date: 5 p.m. Eastern Time on Friday, December 28, 2007.

Docket Numbers: ER08-312-000.

Applicants: Pacific Gas and Electric Company.

Description: Pacific Gas and Electric Company submits its compliance filing involving one rate change to its Transmission Owner Tariff, FERC Electric Tariff, Sixth Revised Volume 5.

Filed Date: 12/07/2007.

Accession Number: 20071210-0008.

Comment Date: 5 p.m. Eastern Time on Friday, December 28, 2007.

Docket Numbers: ER08-313-000.

Applicants: Xcel Energy Services Inc.

Description: Xcel Energy Services Inc on behalf of Southwestern Public Service Co submits revised tariff sheets.

Filed Date: 12/07/2007.

Accession Number: 20071210-0247.

Comment Date: 5 p.m. Eastern Time on Friday, December 28, 2007.

Docket Numbers: ER08-314-000.

Applicants: Bicent (California) Malburg LLC.

Description: Bicent (California) Malburg LLC submits an application for Market-Based Rate Authority and request for waivers etc.

Filed Date: 12/07/2007.

Accession Number: 20071210-0038.

Comment Date: 5 p.m. Eastern Time on Friday, December 28, 2007.

Take notice that the Commission received the following electric securities filings:

Docket Numbers: ES08-7-000.

Applicants: NorthWestern Corporation.

Description: NorthWestern Corporation submits an application requesting authorization to secure the obligation of its wholly-owned indirect subsidary, Colstrip Lease Holdings LLC under a $100,000,000 credit facility etc.

Filed Date: 12/05/2007.

Accession Number: 20071207-0102.

Comment Date: 5 p.m. Eastern Time on Wednesday, December 26, 2007.

Docket Numbers: ES08-8-000.

Applicants: FirstEnergy Service Company.

Description: Form 523—Joint Application for Authorization to Issue Securities of FirstEnergy Service Company, et al.

Filed Date: 12/06/2007.

Accession Number: 20071206-5071.

Comment Date: 5 p.m. Eastern Time on Thursday, December 27, 2007.

Docket Numbers: ES08-10-000.

Applicants: Portland General Electric Company.

Description: Form 523—Request for Permission to Issue Securities of Portland General Electric Company.

Filed Date: 12/07/2007.

Accession Number: 20071207-5123.

Comment Date: 5 p.m. Eastern Time on Friday, December 28, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E7-24593 Filed 12-18-07; 8:45 am]

BILLING CODE 6717-01-P